DEPARTMENT OF HEALTH AND HUMAN SERVICES

Centers for Disease Control and Prevention

Board of Scientific Counselors, Coordinating Office for Terrorism Preparedness and Emergency Response (BSC, COTPER) ¹

¹ The Coordinating Office for Terrorism Preparedness and Emergency Response has been renamed and is now the Office of Public Health Preparedness and Response (OPHPR).

In accordance with section 10(a)(2) of the Federal Advisory Committee Act (Pub. L. 92-463), CDC announces the following meeting of the aforementioned committee:

Time and Date: 1:30 p.m.-4 p.m. (EDT), April 26, 2010.

Place: CDC, 1600 Clifton Road, NE., Global Communications Center, Building 19, Auditorium B3, Atlanta, Georgia 30333. This meeting is also accessible by Web Conference. Please contact the BSC Coordinator (see Contact Person for More Information) to obtain further instructions on how to participate by phone and online.

Status: Open to the public limited only by the space available. The meeting room accommodates approximately 50 people. Participation by web conference is limited by the number of ports available. Visitors to the CDC Roybal campus must be processed in accordance with established federal policies and procedures and should pre-register for the meeting as described in Additional Information for Visitors.

Purpose: This Board is charged with providing advice and guidance to the Secretary, Department of Health and Human Services (HHS), the Assistant Secretary for Health (ASH), the Director, Centers for Disease Control and Prevention (CDC), and the Director, Office of Public Health Preparedness and Response (OPHPR), concerning strategies and goals for the programs and research within OPHPR, monitoring the strategic direction and focus of the OPHPR Divisions and Offices, and administration and oversight of peer review of OPHPR scientific programs. For additional information about the Board, please visit: http://emergency.cdc.gov/cotper/science/counselors.asp.

Matters To Be Discussed: The agenda items for this meeting include: a briefing to the Board on the findings from the external peer review of OPHPR's Division of State and Local Readiness followed by a vote on final recommendations; updates from liaison representatives to the Board to share any key highlights of their organization's activities that are relevant to the OPHPR mission.

Additional Information for Visitors: All visitors to the CDC Roybal campus are required to present a valid form of picture identification issued by a state, federal or international government. To expedite the security clearance process for visitors to the CDC Roybal campus, all visitors must pre-register by submitting the following information by e-mail or phone (see Contact Person for More Information) no later than 12 noon (EDT) on Monday, April 19, 2010:

• Full Name,

• Organizational Affiliation,

• Complete Mailing Address,

• Citizenship, and

• Phone Number or E-mail Address

For foreign nationals or non-U.S. citizens, pre-approval is required. Please contact the BSC Coordinator (see Contact Person for More Information) in advance of the posted pre-registration deadline for additional security requirements that must be met.

Contact Person for More Information: Matthew Jennings, BSC Coordinator, OPHPR, Centers for Disease Control and Prevention, 1600 Clifton Rd., NE., Mailstop D-44, Atlanta, GA 30333, Telephone: (404) 639-7357; Facsimile: (404) 639-7977; E-mail: OPHPR.BSC.Questions@cdc.gov.

The Director, Management Analysis and Service Office, has been delegated the authority to sign Federal Register notices pertaining to announcements of meetings and other committee management activities for both CDC and Agency for Toxic Substances and Disease Registry.

Dated: April 5, 2010.
Elaine L. Baker,
Director, Management Analysis and Service Office, Centers for Disease Control and Prevention.

[FR Doc. 2010-8178 Filed 4-8-10; 8:45 am]

BILLING CODE 4163-18-P